Proclamation 9001 of July 25, 2013

World Hepatitis Day, 2013

By the President of the United States of America

A Proclamation

Each year, we mark World Hepatitis Day to bring attention to a disease that afflicts one in twelve people worldwide. Viral hepatitis is a major cause of liver cancer and cirrhosis in the United States, leading to approximately 18,000 American deaths every year. Outcomes can significantly improve with treatment, but because viral hepatitis can be present without symptoms for decades, most infected Americans do not know they have it. Today, we raise awareness about preventing and treating viral hepatitis, and we renew our commitment to combat this disease in all its forms.

Public awareness is key to halting the spread of viral hepatitis. All types of this disease pose serious health threats, and both hepatitis B and C can become chronic infections that lead to liver cancer and liver disease. Vaccines for hepatitis A and B are crucial to preventing new cases, and they are recommended for all children, as well as adults at an elevated risk of infection. There is no vaccine against hepatitis C, but through early detection and treatment, it is possible to reduce the risk of transmission, avert the worst complications, and in many cases even cure the infection.

Anyone can contract hepatitis, but in the United States it disproportionately affects the African American, Hispanic, and Asian American and Pacific Islander communities, and people born between 1945 and 1965. Injection drug users of all ages are also at increased risk. My Administration is working to raise awareness among communities hardest hit by viral hepatitis, organizing campaigns to prevent new infections, and promoting testing and treatment.

My Administration also continues to work with our partners across the Federal Government, in States, communities, and the public and nonprofit sectors to implement programs like the Healthy People 2020 initiative and the Action Plan for the Prevention, Care, and Treatment of Viral Hepatitis. This ambitious plan aims to reduce the number of new hepatitis C cases by 25 percent, eliminate mother-to-child transmission of hepatitis B, and significantly increase the proportion of people who know of their hepatitis B and C infections. In addition, the Affordable Care Act requires health insurance plans to cover, without co-pays, hepatitis A and B vaccines as recommended for children and adults at elevated risk for infection, as well as hepatitis B screenings for pregnant women at their first prenatal visit. After June 2014, new health plans must cover screening, without co-pays, for hepatitis C virus infection in persons at high risk for infection. Plans must also cover one-time screening for hepatitis C infection for adults born between 1945 and 1965.

Viral hepatitis is a silent epidemic, and we can only defeat it if we break that silence. Now is the time to learn the risk factors for hepatitis, talk to family, friends, and neighbors who may be at risk, and to speak with healthcare providers about strategies for staying healthy. On World Hepatitis Day, let each of us lend our support to those living with hepatitis and do our part to bring this epidemic to an end.

NOW, THEREFORE, I, BARACK OBAMA, President of the United States of America, by virtue of the authority vested in me by the Constitution and the laws of the United States, do hereby proclaim July 28, 2013, as World Hepatitis Day. I encourage citizens, Government agencies, nonprofit organizations, and communities across the Nation to join in activities that will increase awareness about hepatitis and what we can do to prevent it.

IN WITNESS WHEREOF, I have hereunto set my hand this twenty-fifth day of July, in the year of our Lord two thousand thirteen, and of the Independence of the United States of America the two hundred and thirty-eighth.

[FR Doc. 2013-18541

Filed 7-30-13; 8:45 am]

Billing code 3295-F3